DEPARTMENT OF THE INTERIOR

Fish and Wildlife Service

[FWS-R7-R-2013-N257; FF07R05000 FVRS84510700000 14X]

Minor Boundary Adjustment; Kodiak National Wildlife Refuge, Alaska

AGENCY: Fish and Wildlife Service, Interior.

ACTION: Notice.

SUMMARY: Pursuant to the Alaska National Interest Lands Conservation Act, the Secretary of the Interior, acting through the Regional Director, Alaska Region, U.S. Fish and Wildlife Service, has made a minor modification to the boundary of the Kodiak National Wildlife Refuge. This action incorporated a 2,333-acre parcel, adjacent to the Refuge and managed by the Bureau of Land Management (BLM), into the Refuge.

DATES: BLM provided written concurrence for the boundary adjustment on December 27, 2012. Notification to Congress of the proposed boundary change was provided on January 06, 2014.

ADDRESSES: Douglas Campbell, Acting Chief, Division of Realty and Conservation Planning, U.S. Fish and Wildlife Service, 1011 East Tudor Road, Mail Stop 211, Anchorage, AK 99503-6199.

FOR FURTHER INFORMATION CONTACT: Douglas Campbell, 907-786-3907.

SUPPLEMENTARY INFORMATION: The parcel is within a larger area that was formerly the Karluk Indian Reservation. Pursuant to section 17(d)(1) of the Alaska Native Claims Settlement Act of December 18, 1971, and Public Land Order 5188 signed on March 15, 1972, revoked land reserves within Alaska, including the Karluk Indian Reservation, were set aside for the use or administration of Alaska Native affairs. As a result, all the land and Alaska Native land claims within the boundary of the former Karluk Indian Reservation came under the administration of the Bureau of Land Management (BLM), Department of the Interior.

The parcel is described as Sections 26, 27, 28, and 30, Township 30 South, Range 31 West, Seward Meridian.

BLM conveyed the majority of the land within the former Karluk Indian Reservation to Alaska Native corporations and Native allottees. The four sections of land encompassed by the boundary adjustment were beyond what was needed to fulfill the Alaska Native Corporations entitlements and remained under BLM management. These lands are adjacent to Refuge lands and represent isolated acreage that is more suitably managed by the Service.

Authorities

Section 103(b) of the Alaska National Interest Lands Conservation Act (16 U.S.C. 3103(b)) establishes authority for the Secretary of the Interior to make minor boundary adjustments to the wildlife refuges created by the Act. Following due notice to Congress, the Secretary, acting through the Regional Director, Alaska Region, U.S. Fish and Wildlife Service, has used this authority to adjust the boundary of the Kodiak National Wildlife Refuge to include the 2,333-acre Parcel described in the aforementioned legal description.

Geoffrey L. Haskett,
Regional Director, U.S. Fish and Wildlife Service, Anchorage, Alaska.

[FR Doc. 2014-07937 Filed 4-8-14; 8:45 am]

BILLING CODE 4310-55-P